POSTAL SERVICE

Board of Governors; Sunshine Act Meeting

DATE AND TIME: Tuesday, February 9, 2010, at 8:30 a.m.; 1:30 p.m. and 3:15 p.m.

PLACE: Washington, DC, at U.S. Postal Service Headquarters, 475 L'Enfant Plaza, SW., in the Benjamin Franklin Room.

STATUS: February 9 at 8:30 a.m.—Closed; 1:30 p.m.—Open; and 3:15 p.m.—Closed.

MATTERS TO BE CONSIDERED:

Tuesday, February 9 at 8:30 a.m. (Closed)

1. Strategic Issues.

2. Pricing.

3. Financial Matters.

4. Personnel Matters and Compensation Issues.

5. Governors' Executive Session—Discussion of prior agenda items and Board Governance.

Tuesday, February 9 at 1:30 p.m. (Open)

1. Minutes of the Previous Meetings, November 12-13, December 8, 2009; and January 12, 2010.

2. Remarks of the Chairman of the Board.

3. Remarks of the Postmaster General and CEO.

4. Amendments to Board Bylaws.

5. Appointment of Committee Members and Committee Reports.

6. Quarterly Report on Financial Performance.

7. Inspector General Report on USPS Share of CSRS Pension Responsibility.

8. Quarterly Report on Service Performance.

9. Tentative Agenda for the March 22-24, 2010, meeting in Washington, DC.

Tuesday, February 9 at 3:15 p.m. (Closed)

1. Continuation of closed session agenda.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2010-1858 Filed 1-26-10; 4:15 pm]

BILLING CODE 7710-12-P